DEPARTMENT OF THE INTERIOR

Minerals Management Service

Agency Information Collection Activities: Submitted for Office of Management and Budget (OMB) Review; Comment Request

AGENCY: Minerals Management Service (MMS), Interior.

ACTION: Notice of extension of an information collection (1010-0051).

SUMMARY: To comply with the Paperwork Reduction Act of 1995 (PRA), we are notifying the public that we have submitted to OMB an information collection request (ICR) to renew approval of the paperwork requirements in the regulations under 30 CFR 250, Subpart L, Oil and Gas Production Measurement, Surface Commingling, and Security.

DATES: Submit written comments by April 23, 2004.

ADDRESSES: You may submit comments either by fax (202) 395-6566 or e-mail (OIRA_DOCKET@omb.eop.gov) directly to the Office of Information and Regulatory Affairs, OMB, Attention: Desk Officer for the Department of the Interior (1010-0051). Mail or hand carry a copy of your comments to the Department of the Interior; Minerals Management Service; Attention: Rules Processing Team; Mail Stop 4024; 381 Elden Street; Herndon, Virginia 20170-4817. If you wish to e-mail your comments to MMS, the address is: rules.comments@mms.gov. Reference Information Collection 1010-0051 in your subject line and mark your message for return receipt. Include your name and return address in your message text.

FOR FURTHER INFORMATION CONTACT: Arlene Bajusz, Rules Processing Team, (703) 787-1600. You may also contact Arlene Bajusz to obtain a copy, at no cost, of the regulations that require the subject collection of information.

SUPPLEMENTARY INFORMATION: Title: 30 CFR 250, Subpart L, Oil and Gas Production Measurement, Surface Commingling, and Security.

OMB Control Number: 1010-0051.

Abstract: The Outer Continental Shelf (OCS) Lands Act, as amended (43 U.S.C. 1331 et seq. and 43 U.S.C. 1801 et seq.), authorizes the Secretary of the Interior (Secretary) to preserve, protect, and develop oil and gas resources in the OCS. This must be in a manner that is consistent with the need to make such resources available to meet the Nation's energy needs as rapidly as possible; balance orderly energy-resources development with protection of the human, marine, and coastal environment; ensure the public a fair and equitable return on OCS resources; and preserve and maintain free enterprise competition. The Federal Oil and Gas Royalty Management Act of 1982 (30 U.S.C. 1701, et seq.) at section 1712(b)(2) prescribes that an operator will “develop and comply with such minimum site security measures as the Secretary deems appropriate, to protect oil or gas produced or stored on a lease site or on the Outer Continental Shelf from theft.” These authorities and responsibilities are among those delegated to MMS under which we issue regulations governing oil and gas and sulphur operations in the OCS. This information collection request addresses the regulations at 30 CFR Part 250, Subpart L, Oil and Gas Production Measurement, Surface Commingling, and Security, and the associated supplementary notices to lessees and operators intended to provide clarification, description, or explanation of these regulations.

MMS uses the information collected under Subpart L to ensure that the volumes of hydrocarbons produced are measured accurately and that royalties are paid on the proper volumes. Specifically, MMS needs the information to:

• Determine if measurement equipment is properly installed, provides accurate measurement of production on which royalty is due, and is operating properly;

• Obtain rates of production data in allocating the volumes of production measured at royalty sales meters, which can be examined during field inspections;

• Ascertain if all removals of oil and condensate from the lease are reported;

• Determine the amount of oil that was shipped when measurements are taken by gauging the tanks rather than being measured by a meter;

• Ensure that the sales location is secure and production cannot be removed without the volumes being recorded; and

• Review proving reports to verify that data on run tickets are calculated and reported accurately.

Responses are mandatory. No questions of a “sensitive” nature are asked. MMS will protect proprietary information according to 30 CFR 250.196 (Data and information to be made available to the public) and 30 CFR Part 252 (OCS Oil and Gas Information Program).

Frequency: The frequency varies by section, but is primarily monthly or on occasion.

Estimated Number and Description of Respondents: Approximately 130 Federal OCS oil and gas or sulphur lessees.

Estimated Reporting and Recordkeeping “Hour” Burden: The estimated annual “hour” burden for this information collection is a total of 7,433 hours. The following chart details the individual components and estimated hour burdens. In calculating the burdens, we assumed that respondents perform certain requirements in the normal course of their activities. We consider these to be usual and customary and took that into account in estimating the burden.

Citation 30 CFR 250 subpart L | Reporting or recordkeeping requirement | Hour burden (minutes) | Average No. annual responses | Annual burden hours
1202(a)(1), (b)(1) | Submit application for liquid hydrocarbon measurement procedures or changes | 8 | 120 | 960
1202(a)(4) | Copy & send pipeline (retrograde) condensate volumes upon request | 45 | 21 | 16
1202(c)(4)* | Copy & send all liquid hydrocarbon run tickets monthly | 1 | 23,800 | 397
1202(d)(4) | Request approval for proving on a schedule other than monthly | 1 | 25 | 25
1202(d)(5)* | Copy & submit liquid hydrocarbon royalty meter proving reports monthly & request waiver as needed | 2 | 9,835 | 328
1202(f)(2)* | Copy & submit mechanical-displacement prover & tank prover calibration reports | 10 | 102 | 17
1202(l)(2)* | Copy & submit royalty tank calibration charts before using for royalty measurement | 15 | 12 | 3
1202(l)(3)* | Copy & submit inventory tank calibration charts upon request | 15 | 4 | 1
1203(b)(1) | Submit application for gas measurement procedures or changes | 8 | 75 | 600
1203(b)(6), (8), (9)* | Copy & submit gas quality and volume statements monthly or as requested (most will be routine; few will take longer) | 2 30 | 21,696 24 | 723 12
1203(c)(4)* | Copy & submit gas meter calibration reports upon request | 5 | 34 | 3
1203(e)(1)* | Copy & submit gas processing plant records upon request | 30 | 4 | 2
1203(f)(5) | Copy & submit measuring records of gas lost or used on lease upon request | 30 | 22 | 11
1204(a)(1) | Submit application for commingling of production or changes | 8 | 195 | 1,560
1204(a)(2) | Provide state production volumetric and/or fractional analysis data upon request | 1 | 1 | 1
1205(a)(2) | Post signs at royalty or inventory tank used in royalty determination process | 1 | 75 | 75
1205(a)(4) | Report security problems (telephone) | 15 | 2 | 1
1200 thru 1205 | General departure and alternative compliance requests not specifically covered elsewhere in Subpart L | 1 | 50 | 50
Subtotal—Reporting |  |  | 56,098 | 4,785
1202(c)(1), (2) 1202(e)(4) 1202(h)(1), (2), (3), (4) 1202(i)(1)(iv), (2)(iii) 1202(j) | Record observed data, correction factors & net standard volume on royalty meter and rank run tickets Record master meter calibration runs Record mechanical-displacement prover, master meter, or tank prover proof runs Record liquid hydrocarbon royalty meter malfunction and repair or adjustment on proving report; record unregistered production on run ticket List Cpl and Ctl factors on run rickets | Respondents record these items as part of normal business records & practices to verify accuracy of production measured for sale purposes |  | 0
1202(e)(6) | Retain master meter calibration reports for 2 years | 1 | 1,170 | 20
1202(k)(5) | Retain liquid hydrocarbon allocation meter proving reports for 2 years | 1 | 10,850 | 181
1202(l)(3) | Retain liquid hydrocarbon inventory tank calibration charts for as long as tanks are in use | 5 | 110 | 9
1203(c)(4) | Retain calibration reports for 2 years | 1 | 18,860 | 314
1203(f)(4) | Document & retain measurement records on gas lost or used on lease for 2 years at field location and minimum 7 years at location of respondent's choice | 1 | 4,030 | 67
1204(b)(3) | Retain well test data for 2 years | 2 | 52,900 | 1,763
1205(b)(3), (4) | Retain seal number lists for 2 years | 2 | 8,810 | 294
Subtotal—Recordkeeping: 130 Recordkeepers
Total Hour Burden |  |  | 152,828 | 7,433
*Respondents gather this information as part of their normal business practices. MMS only requires copies of readily available documents. There is no burden for testing, meter reading, etc.

Estimated Reporting and Recordkeeping “Non-Hour Cost” Burden: We have identified no “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on November 19, 2003, we published a Federal Register notice (68 FR 65305) announcing that we would submit this ICR to OMB for approval. The notice provided the required 60-day comment period. In addition, § 250.199 provides the OMB control number for the information collection requirements imposed by the 30 CFR 250 regulations. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by April 23, 2004.

Public Comment Policy: MMS's practice is to make comments, including names and home addresses of respondents, available for public review during regular business hours. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Federal Register Liaison Officer: Denise Johnson, (202) 208-3976.

Dated: March 1, 2004.
E.P. Danenberger,
Chief, Engineering and Operations Division.

[FR Doc. 04-6494 Filed 3-23-04; 8:45 am]

BILLING CODE 4310-MR-W